DEPARTMENT OF STATE

[Public Notice: 12561; No. 2024-11]

Determination Pursuant to the Foreign Missions Act

Pursuant to the authority vested in the Secretary of State under the Foreign Missions Act, 22 U.S.C. 4301, et seq. (“the Act”), and delegated pursuant to Department of State Delegation of Authority No. 214 of September 20, 1994, and after due consideration of the benefits, privileges, and immunities provided to the missions of the United States abroad, as well as matters related to the protection of the interests of the United States, I hereby designate the acquisition and use of any contracted services from private entities or vendors in the United States as a benefit as defined 22 U.S.C. 4302(a)(1).

Section 204(b) of the Act (22 U.S.C. 4304(b)) provides that the Secretary of State may require a foreign mission to forego the acceptance, use, or relation of any benefit or to comply with such terms and conditions as the Secretary may determine as a condition to the execution or performance in the United States of any contract or other agreement, the acquisition, retention, or use of any real property, or the application for or acceptance of any benefit.

Pursuant to the authority vested in the Secretary of State under Section 204(b) of the Act and delegated pursuant to Department of State Delegation of Authority No. 214 of September 20, 1994, I hereby determine it is reasonably necessary on the basis of reciprocity and to protect the interests of the United States to require the Embassy of the Russian Federation and its consular posts to comply with the terms and conditions specified by the Department of State's Office of Foreign Missions relating to the above-named entity's activities in the United States.

Further, the acquisition of any such services shall be subject to all terms and conditions established by the Director or Principal Deputy Director of the Office of Foreign Missions. This determination does not pertain to services provided at the Permanent Mission to the United Nations of the Russian Federation, unless such services are being provided through that mission to the Embassy of the Russian Federation in Washington, DC or its consular posts located in Houston, Texas and New York City, New York. Pursuant to section 211 of the Act (22 U.S.C. 4311), it shall be unlawful for any person to make available any benefits to a foreign mission contrary to the requirements set forth in this Designation and Determination.

Pursuant to section 208(b) of the Act (22 U.S.C. 4308), compliance with this Designation and Determination shall to the extent thereof be a full acquittance and discharge for all purposes of the obligation of the person making the same. No person shall be held liable in any court or administrative proceeding for or with respect to anything done or omitted in good faith in connection with the administration of, or pursuant to and in reliance on, the Act or this Designation and Determination.

Rebecca E. Gonzales,
Director, Office of Foreign Missions, Department of State.

[FR Doc. 2024-22875 Filed 10-2-24; 8:45 am]

BILLING CODE 4711-11-P